DEPARTMENT OF HEALTH AND HUMAN SERVICES

President's Advisory Commission on Asian Americans and Pacific Islanders; Notice of Meeting

In accordance with section 10(a)(2) of the Federal Advisory Committee Act (Pub. L. 92-463), announcement is made of the following National Advisory body scheduled to conduct a public meeting during the month of May 2003.

Name: President's Advisory Commission on Asian Americans and Pacific Islanders (Commission).

Date and Time:

Wednesday, May 7, 2003; 1 p.m.-5 p.m. e.s.t.

Thursday, May 8, 2003; 9 a.m.-3:30 p.m. e.s.t.

Location: Holiday Inn Georgetown, 2101 Wisconsin Avenue, NW., Washington, DC 20007.

The meeting is open to the public.

The President's Advisory Commission on AAPIs will conduct a public meeting on May 7, 2003, from 1 p.m. to 5 p.m. and May 8, 2003, from 9 a.m. to 3:30 p.m. e.s.t. inclusive.

Agenda items will include, but may not be limited to: Preliminary highlights from the President's Advisory Commission Report in the subject area of health; presentations on the subject area of economic and community development, administrative tasks; deadlines; upcoming events; and comments from the public.

The purpose of the Commission is to advise and make recommendations to the President on ways to increase opportunities for and improve the quality of life of approximately 13 million Asian Americans and Pacific Islanders living in the United States and the U.S.-associated Pacific Island jurisdictions, especially those who are most underserved.

Requests to address the Commission must be made in writing and should include the name, address, telephone number and business or professional affiliation of the interested party. Individuals or groups addressing similar issues are encouraged to combine comments and make their request to address the Commission through a single representative. The White House Initiative's office will adjust the allocation of time for remarks to accommodate the level of expressed interest. Written requests must be faxed to (301) 443-0259.

Anyone who has interest in joining any portion of the meeting or who requires additional information about the Commission should contact: Ms. Betty Lam or Mr. Erik F. Wang, Office of the White House Initiative on AAPIs, Parklawn Building, Room 10-42, 5600 Fishers Lane, Rockville, MD 20857, Telephone (301) 443-2492. Anyone who requires special assistance, such as sign language interpretation or other reasonable accommodations, should contact Mr. Wang no later than April 30, 2003.

Dated: April 22, 2003.
Regina Schofield,
Director, Office of Intergovernmental Affairs.

[FR Doc. 03-10587 Filed 4-24-03; 4:58 pm]

BILLING CODE 4165-15-P